FEDERAL COMMUNICATIONS COMMISSION

Notice of Public Information Collection(s) Being Reviewed by the Federal Communications Commission for Extension Under Delegated Authority

June 9, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before August 17, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control Number: 3060-1064.

Title: Regulatory Fee Assessment Notifications.

Form No.: N/A.

Type of Review: Extension of a currently approved collection.

Respondents: Business or other for-profit, not-for-profit institutions, and state, local or tribal government.

Number of Respondents: 1,130.

Estimated Time per Response: .25 hours (15 minutes).

Frequency of Response: On occasion reporting requirement.

Total Annual Burden: 283 hours.

Total Annual Cost: N/A.

Privacy Act Impact Assessment: N/A.

Needs and Uses: Each year the Commission collects Congressionally-mandated regulatory fees from its regulates based on a schedule of fees that it establishes in an annual rulemaking proceeding. In the past years, the Commission pulled licensee addresses from its databases and mailed to these licensees Public Notices that (1) announced when regulatory fees are due; and (2) provided guidance for making fee payments. For the FY 2004 regulatory season, the Commission is going to send fee assessments to cable TV operators, media services licensees, and commercial mobile radio service (CMRS) licensees so that they have an opportunity to counter, update or rectify basic license data and assessed fee amounts well before the actual due date for submission or regulatory fee payments. We will use the information to update our database.

Federal Communications Commission.
Marlene H. Dortch,
Secretary.

[FR Doc. 04-13807 Filed 6-17-04; 8:45 am]

BILLING CODE 6712-01-P